DEPARTMENT OF THE INTERIOR

National Park Service

Temporary Concession Contract for Pinnacles National Monument, CA

AGENCY: National Park Service, Department of the Interior.

ACTION: Notice of proposed award of temporary concession contract for the Pinnacles Campground Within Pinnacles National Monument, CA.

SUMMARY: Pursuant to 36 CFR 51.24, public notice is hereby given that the National Park Service proposes to award a temporary concession contract for the conduct of certain visitor services within Pinnacles National Monument, California for a term not to exceed two (2) years. The visitor services include a campground and a small convenience/grocery store. This action is necessary to avoid interruption of visitor services.

DATES: The term of the temporary concession contract will commence (if awarded) as of the date of transfer to the National Park Service of land on which these services are currently provided to the visiting public. This land transfer is expected to happen sometime in the first quarter of 2006.

SUPPLEMENTARY INFORMATION: The temporary concession contract is proposed to be awarded to Pinnacles Campground, Inc., a qualified person. The campground is located on land which is proposed to be transferred to the National Park Service.

The National Park Service has determined that a temporary contract is necessary in order to avoid interruption of visitor services and has taken all reasonable and appropriate steps to consider alternatives to avoid an interruption of visitor services. This action is issued pursuant to 36 CFR 51.24(a). This is not a request for proposals.

Dated: March 29, 2006.
Alfred J. Poole, III,
Acting Assistant Director, Business Services.

[FR Doc. 06-3595 Filed 4-13-06; 8:45 am]

BILLING CODE 4312-EP-M